DEPARTMENT OF AGRICULTURE

Forest Service

Northeast Oregon Forests Resource Advisory Committee (RAC)

AGENCY: Forest Service, USDA.

ACTION: Notice of meetings.

SUMMARY: Pursuant to the authorities in the Federal Advisory Committees Act (Pub. L. 92-463), the Northeast Oregon Forests Resource Advisory Committee (RAC) will meet on February 15, 2005 in John Day, Oregon. The purpose of the meeting is to meet as a Committee to orient new members, discuss procedures and future meetings.

DATES: The meeting will be held as follows: February 15, 2005, 10 a.m. to 4 p.m., John Day, Oregon.

ADDRESSES: The February 15, 2005 meeting will be held at the Malheur National Forest Supervisors Office, 431 Patterson Bridge Road, John Day, Oregon.

FOR FURTHER INFORMATION CONTACT: Jennifer Harris, Designated Federal Official, USDA, Malheur National Forest, PO Box 909, John Day, Oregon 97845. Phone: (541) 575-3008.

SUPPLEMENTARY INFORMATION: At the February 15, 2005 meeting the RAC will acknowledge newly appointed members, discuss procedures for receiving and reviewing proposed projects in the coming year, and discuss the meeting schedule for the coming year. A public comment period will be provided at 1 p.m. and individuals will have the opportunity to address the committee at that time.

Dated: January 14, 2005.
Jennifer L. Harris,
Designated Federal Official.

[FR Doc. 05-1199 Filed 1-21-05; 8:45 am]

BILLING CODE 3410-PK-M